FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

A & E Logistics, Inc. (NVO & OFF), 3011 S. Poplar Avenue, Chicago, IL 60608, Officer: Alison Chan, President (QI), Application Type: Add NVO Service.

Amy Miwon Park dba AMP Shipping International (NVO), 3828 W. 226th Street, Suite #37, Torrance, CA 90505, Officer: Amy M. Park, Sole Proprietor (QI), Application Type: Business Structure Change To Amp Shipping International, LLC.

AZ Express Freight, Inc. (NVO), 6129 Fleetwood Lane, Chino Hills, CA 91709, Officer: Bin aka Ada Zhou, CEO (QI), Application Type: New NVO License.

Carolina Shipping Company, L.P. dba Cutlass Logistics Ltd. (OFF), 1064 Gardner Road, Suite 312, Charleston, SC 29407, Officers: Dennis J. Forsberg, Manager (QI), Thomas J. Springer, President, Application Type: Transfer to Biehl & Co. South Carolina LLC.

Concept Cargo Freight & Logistics Inc (NVO), 10925 NW 27th Street, Miami, FL 33172, Officers:, Milton A. Rocha, Director (QI), Tania M. Reis, Director, Application Type: Add Trade Name Serpa Group & QI Change.

Dug Cargo LLC (NVO & OFF), 3409B NW 72nd Avenue, Miami, FL 33122, Officers: David Valencia, Manager (QI), Teodoro Hoffmann, Managing Member, Application Type: New NVO & OFF License.

Expert Log LLC (NVO & OFF), 10540 NW 29th Terrace, Doral, FL 33172, Officers: Annia Ortiz, Manager (QI), Maria E. Souza, Member, Application Type: QI Change.

GB America, LLC (NVO), 19100 Von Karman Avenue, Suite 370, Irvine, CA 92612, Officer: Jo Ning Huang, Member (QI), Application Type: New NVO Service.

Global USA Inc. (NVO & OFF), 140 E. Tujunga Avenue, Burbank, CA 91502, Officers: Mikayel Hayrapetyan, CFO (QI), Khachatur Papyan, President, Application Type: New NVO & OFF License.

Neptune Logistics, Inc. (NVO), 11213 Suffolk Drive, Hagerstown, MD 21742, Officers: Fateh B. Harisinghani, Treasurer (QI), Sangeeta Khalsa, President, Application Type: New NVO License.

Proline Shipping Houston, Inc. dba Proline Logistics (NVO), 9102 Westpark Drive, Houston, TX 77063, Officers: Susan Wong, Treasurer (QI), Richard Tsai, President, Application Type: New NVO License.

Secure Transportation and Relocation International, Inc. dba Star, International Movers (OFF), 21598 Atlantic Blvd., Suite 100, Sterling, VA 20166, Officers:, James Re, Member (QI), Michael Keller, Member, Application Type: Transfer to Star International Movers, LLC.

SNS Global Logistic Inc. (NVO), 182-30 150 Road, Suite 106, Springfield Gardens, NY 11413, Officers: Dong Hoon Yum, Secretary (QI), Seungjoon Oh, President, Application Type: New NVO License.

By the Commission.
Dated: February 7, 2014.
Rachel E. Dickon,
Assistant Secretary.

[FR Doc. 2014-03099 Filed 2-12-14; 8:45 am]

BILLING CODE 6730-01-P